DEPARTMENT OF DEFENSE

Office of the Secretary

[Docket ID: DoD-2020-OS-0035]

Privacy Act of 1974; System of Records

AGENCY: Defense Manpower Data Center (DMDC), Department of Defense (DoD).

ACTION: Notice of a Modified System of Records

SUMMARY: The DMDC is modifying a System of Records, Defense Travel System (DTS), DHRA 08 DoD. The DTS manages and processes unclassified DoD temporary duty travel. It procures commercial travel services via the DTS web portal. The DTS web portal books travel reservations, verifies travel requirements, computes the costs associated with each trip, reconciles cost, disburses payments, and archives each travel record in accordance with DoD requirements.

DATES: This System of Records modification is effective upon publication; however, comments on the Routine Uses will be accepted on or before April 27, 2020. The Routine Uses are effective at the close of the comment period.

ADDRESSES: You may submit comments, identified by docket number and title, by any of the following methods:

* Federal Rulemaking Portal: https://www.regulations.gov.

Follow the instructions for submitting comments.

* Mail: Department of Defense, Office of the Chief Management Officer, Directorate for Oversight and Compliance, 4800 Mark Center Drive, Mailbox #24, Suite 08D09, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Luz D. Ortiz, Chief, Records, Privacy and Declassification Division (RPDD), 1155 Defense Pentagon, Washington, DC 20301-1155, or by phone at (571) 372-0478.

SUPPLEMENTARY INFORMATION: The Office of the Secretary of Defense (OSD) is modifying this System of Records to ensure it is representative of DoD travel systems by changing the following sections: System identifier; system location; system managers; the authority for maintenance of the system; the purpose(s); categories of individuals; categories of records; record source categories; routine uses; storage; retrievability; retention and disposal; safeguards; record access procedures; contesting record procedures; and notification procedure.

The OSD notices for Systems of Records subject to the Privacy Act of 1974, as amended, have been published in the Federal Register and are available from the address in FOR FURTHER INFORMATION CONTACT or at the Defense Privacy, Civil Liberties, and Transparency Division website at https://dpcld.defense.gov.

The proposed system reports, as required by the Privacy Act, as amended, were submitted on December 11, 2019, to the House Committee on Oversight and Reform, the Senate Committee on Homeland Security and Governmental Affairs, and the Office of Management and Budget (OMB) pursuant to Section 6 of OMB Circular No. A-108, “Federal Agency Responsibilities for Review, Reporting, and Publication under the Privacy Act,” revised December 23, 2016 (December 23, 2016, 81 FR 94424).

Dated: March 23, 2020.
Aaron T. Siegel,
Alternate OSD Federal Register Liaison Officer, Department of Defense.

SYSTEM NAME AND NUMBER:

Defense Travel System (DTS), DHRA 08 DoD.

SECURITY CLASSIFICATION:

Unclassified.

SYSTEM LOCATION:

Operational DTS is located at the Central Data Center 1, Quality Technology Services (QTS), 1506 Moran Road, Dulles, VA 20166-9306 with the COOP site at the Central Data Center 2, Quality Technology Services (QTS), 1175 N. Main Street, Harrisonburg, VA 22802-4630.

The DTS Archive is located at Defense Manpower Data Center, DoD Center, Monterey Bay, 400 Gigling Road, Seaside, CA 93955-6771.

The DTS Modernization Effort is located in the Concur cloud platform, a commercial entity, Concur Technologies, Inc., 700 Central Expressway South, Suite 230, Allen, TX 75013-8104.

The Employee Rewards System is located at Amazon Web Service, 21155 Smith Switch Road, Ashburn, VA 20147.

The Automated Trip Request Information Process (ATRIP) is located at the Defense Threat Reduction Agency, 8725 John J. Kingman Road, Stop 6201, Fort Belvoir, VA 22060-6201.

SYSTEM MANAGER(S):

For DTS, DTS Modernization records, and the Employee Rewards System: Deputy Director, Defense Travel Management Office, 4800 Mark Center Drive, Suite 04J25-01, Alexandria, VA 22350-6000; email: dodhra.dodc-mb.dmdc.mbx.webmaster@mail.mil.

For DTS Archive records: Deputy Director, Defense Travel System Archive, Defense Manpower Data Center, 400 Gigling Road, Seaside, CA 93955-6771; email: dodhra.dodc-mb.dmdc.mbx.webmaster@mail.mil.

For ATRIP records: Chief, Program Integration Office, Cooperative Threat Reduction, Defense Threat Reduction Agency, 8725 John J. Kingman Road, Stop 6201, Fort Belvoir, VA 22060-6201; email: dtra.belvoir.ct.list.ct-travel-team@mail.mil.

AUTHORITY FOR MAINTENANCE OF THE SYSTEM:

5 U.S.C. 57, Travel, Transportation, and Subsistence; 50 U.S.C. 3711, Authority to carry out Department of Defense Cooperative Threat Reduction Program; Department of Defense (DoD) Directive 5100.87, Department of Defense Human Resources Activity; DoDD 5105.62, Defense Threat Reduction Agency (DTRA); DoD Instruction 5154.31, Volume 3, Commercial Travel Management: Defense Travel System (DTS); DoDI 5154.31, Volume 4, Commercial Travel Management: DoD Government Travel Charge Card (GTCC) Program; DoD Financial Management Regulation 7000.14-R, Vol. 9, Defense Travel System Regulation, current edition; DoD Directive 4500.09E, Transportation and Traffic Management; DTR 4500.9-R, Defense Transportation Regulation, Parts I, Passenger Movement, II, Cargo Movement, III, Mobility, IV, Personal Property, V, Customs; 41 CFR 300-304, The Federal Travel Regulation (FTR); Joint Federal Travel Regulations, Uniformed Service Members and DoD Civilian Employees; and E.O. 9397 (SSN), as amended.

PURPOSE(S) OF THE SYSTEM:

The purpose of the DTS is to provide a DoD-wide travel management process which will cover all official travel, from pre-travel arrangements to post-travel payments. Also, the DTS verifies individual travel information is accurate, current, and meets DoD foreign nation requirements for travel within the continental United States and outside the continental United States. The system facilitates the processing of official travel requests for DoD personnel and other individuals traveling on DoD travel orders. The DTS provides information to financial systems to reimburse individual travel expenses, as well as to a commercial system to facilitate a voluntary rewards program for travelers using government travel charge cards (GTCC) for select purchases. The DTS includes a tracking and reporting system to monitor travel authorizations, obligations, and payments. Additionally, the DoD uses the DTS data to conduct surveys of program effectiveness, provide insight into the gap between product/service delivery and customer expectations, and assist in understanding the drivers of customer satisfaction.

The DTS business intelligence tool and archives provide a repository for reporting and archiving travel records. It assists with planning, budgeting, and allocating resources for future DoD travel, conducting oversight operations, analyzing travel, budgetary, or other trends, detecting fraud and abuse, and provides a mechanism for responding to authorized internal and external requests for data relating to DoD official travel and travel-related services.

To increase the efficiency of DoD travel operations, the DTS modernization effort evaluates newer technology, common industry practices, and the feasibility of a commercial travel product. The scope of the effort will start small and expand over time to include more functionality and different types of DoD users.

CATEGORIES OF INDIVIDUALS COVERED BY THE SYSTEM:

DoD civilian personnel; active, former, and retired military members; Reserve and National Guard personnel; academy nominees, applicants, and cadets; dependents of military personnel; foreign nationals; and all other individuals in receipt of DoD travel orders/authorizations.

CATEGORIES OF RECORDS IN THE SYSTEM:

The DTS collects the following types of personal information: Full name, Social Security Number (SSN), DoD Identification Number (DoD ID Number), gender, date of birth, place of birth, citizenship, Passport information, Visa information, mailing address, home address, emergency contact name, phone number and personal email address. Employment information including: Service/Agency, duty station information, title/rank/grade, civilian/military status information, work email address, work phone number, and security clearance level. Financial information including: GTCC number and expiration date, personal credit card number and expiration date, personal checking and or savings account numbers and bank routing information. Travel information including: Frequent flyer information, travel itineraries (includes dates of travel) and reservations, trip record number, trip cost estimates, travel vouchers, travel-related receipts, travel document status information, travel budget information, commitment of travel funds, records of actual payment of travel funds, and supporting documentation.

RECORD SOURCE CATEGORIES:

The individual traveler, authorized DoD personnel, Government Travel Card records, and DoD information systems via electronic import such as the Air Reserve Orders Writing System and the Navy Reserve Order Writing System.

ROUTINE USES OF RECORDS MAINTAINED IN THE SYSTEM, INCLUDING CATEGORIES OF USERS AND PURPOSES OF SUCH USES:

In addition to those disclosures generally permitted under 5 U.S.C. 552a(b) of the Privacy Act of 1974, as amended, these records may specifically be disclosed outside the DoD as a routine use pursuant to 5 U.S.C. 552a(b)(3) as follows:

a. To Federal and private entities providing travel services for purposes of arranging transportation and lodging for those individuals authorized to travel at government expense on official business.

b. To the Internal Revenue Service to provide information concerning the pay of travel allowances which are subject to federal income tax.

c. To banking establishments for the purpose of confirming billing or expense data.

d. To such recipients and under such circumstances and procedures as mandated by federal statute or treaty.

e. To foreign or international law enforcement, security, or investigatory authorities to comply with requirements imposed by, or to claim rights conferred in, international agreements and arrangements, including those regulating the stationing and status in foreign countries of DoD military and civilian personnel.

f. To contractors responsible for performing or working on contract for the DoD when necessary to accomplish an agency function related to this System of Records. Individuals provided information under this routine use are subject to the same Privacy Act requirements and limitations on disclosure as are applicable to DoD officers and employees.

g. To a federal agency, in response to its request in connection with an investigation of an employee, service member, or other authorized individual to the extent that the information is relevant and necessary to the requesting agency's decision on the matter.

h. To the Office of Personnel Management (OPM) concerning information on pay and leave, benefits, retirement deduction, and any other information necessary for the OPM to carry out its legally authorized government-wide personnel management functions and studies.

i. To the Merit Systems Protection Board, including the Office of the Special Counsel, for the purpose of litigation, including administrative proceedings, appeals, special studies of the civil service and other merit systems, review of OPM or component rules and regulations, investigation of alleged or possible prohibited personnel practices; and administrative proceedings involving any individual subject of a DoD investigation, and such other functions, promulgated in 5 U.S.C. 1205 and 1206, or as may be authorized by law.

j. To appropriate Federal, State, local, territorial, tribal, foreign, or international agencies for the purpose of counterintelligence activities authorized by U.S. law or Executive Order, or for the purpose of executing or enforcing laws designed to protect the national security or homeland security of the United States, including those relating to the sharing of records or information concerning terrorism, homeland security, or law enforcement.

k. To the appropriate Federal, State, local, territorial, tribal, foreign, or international law enforcement authority or other appropriate entity where a record, either alone or in conjunction with other information, indicates a violation or potential violation of law, whether criminal, civil, or regulatory in nature.

l. To any component of the Department of Justice for litigation for the purpose of representing the DoD, or any officer, employee or member of the Department in pending or potential litigation to which the record is pertinent.

m. In an appropriate proceeding before a court, grand jury, or administrative or adjudicative body or official, when the DoD or other Agency representing the DoD determines that the records are relevant and necessary to the proceeding; or in an appropriate proceeding before and administrative or adjudicative body when the adjudicator determines the records to be relevant to the proceeding.

n. To the National Archives and Records Administration (NARA) for records management inspections conducted under authority of 44 U.S.C. 2904 and 2906.

o. To a Member of Congress or staff acting upon the Member's behalf when the member or staff requests the information on behalf of, and at the request of, the individual who is the subject of the record.

p. To appropriate agencies, entities, and persons when (1) the DoD suspects or confirms a breach of the System of Records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

q. To another Federal agency or Federal entity, when the DoD determines that information from this System of Records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Records are maintained in paper and electronic storage media.

POLICIES AND PRACTICES FOR RETRIEVAL OF RECORDS:

Travel authorization and voucher records for DoD employees are retrieved by the DoD Component, name, and/or partial or full SSN. For U.S. citizens, records can be retrieved using the full name, trip number, travel dates and travel destination, and DoD component. For employees' dependents, records can be retrieved using the host employee's component, name, and SSN. For the modernization effort (which only includes a small subset of Federal Government employees) the data is retrieved by DoD ID Number and name.

POLICIES AND PRACTICES FOR RETENTION AND DISPOSAL OF RECORDS:

For DTS and DTS Modernization records: The majority of the records will be destroyed 6 years after the final payment or cancellation. Records relating to a claim will be destroyed 6 years and 3 months after the claim is closed, or when any applicable court order is lifted. In the case of a waiver of a claim, the record will be destroyed 6 years and 3 months after the close of the fiscal year in which the waiver was approved. In the case of a claim for which the Government's right to collect was not extended, the record will be destroyed 10 years and 3 months after the year in which the Government's right to collect first accrued.

For the Employee Rewards System: Records are cutoff and destroyed when no longer needed for business use. For ATRIP records: Records will be destroyed 6 years after the final payment or cancellation.

ADMINISTRATIVE, TECHNICAL, AND PHYSICAL SAFEGUARDS:

Records are stored in office buildings protected by security guards, closed circuit TV, controlled screening, use of visitor registers, electronic access, key cards, ID badges, and/or locks. Access to the system's data is controlled using intrusion detection systems, firewalls, a virtual private network, and DoD public key infrastructure certificates. Procedures are in place to deter and detect browsing and unauthorized access. To access the records, personnel are assigned role-based access and must complete two-factor authentication using a common access card credential and password/PIN. Access to records is limited to individuals who are properly screened and cleared on a need-to-know basis in the performance of their official duties. Physical and electronic access is limited to persons responsible for servicing and authorized to use the record system. The backups of data are encrypted and secured. The program office conducts security audits and monitors security practices.

RECORD ACCESS PROCEDURES:

Individuals seeking access to records about themselves contained in the DTS, the DTS Archive, the DTS Modernization, or the Employee Rewards System should address written requests to: Office of the Secretary of Defense/Joint Staff Freedom of Information Act Requester Service Center, 1155 Defense Pentagon, Washington, DC 20301-1155. Requests for records maintained in the ATRIP should address written requests to: Defense Threat Reduction Agency (DTRA) Freedom of Information/Privacy Act Office Request Center, Defense Threat Reduction Agency (DTRA), 8725 John J. Kingman Road, Stop 6201, Fort Belvoir, VA 22060-6201. Requests must include the name and number of this System of Records Notice in addition to the individual's full name, SSN (if applicable), office or organization where assigned when trip was taken, travel destination, and dates of travel. The request must be signed by the individual. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents and appealing initial agency determinations are published in 32 CFR part 310, or may be obtained from the System Manager.

NOTIFICATION PROCEDURE:

Individuals seeking to determine whether information about themselves is contained in the DTS, DTS Archive, the DTS Modernization, or the Employee Rewards System should address written inquiries to: Deputy Director, Defense Travel Management Office, 4800 Mark Center Drive, Suite 04J25-01, Alexandria, VA 22350-6000 or (for archived records) the Deputy Director, Defense Travel System/Management Information System, Defense Manpower Data Center, 400 Gigling Road, Seaside, CA 93955-6771.

Individuals seeking to determine whether information about themselves is contained in the ATRIP should address written inquiries to: Chief, Program Integration Office, Cooperative Threat Reduction, Defense Threat Reduction Agency, 8725 John J. Kingman Road, Stop 6201, Fort Belvoir, VA 22060-6201. Individuals should provide their full name, office or organization where assigned when the trip was taken, travel destination and dates of travel. In the case of legal claims or duplicate names, an individual's SSN (last 4 digits or full number, depending on the scenario) may be required. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

None.

HISTORY:

March 24, 2010, 75 FR 14142.

[FR Doc. 2020-06467 Filed 3-26-20; 8:45 am]

BILLING CODE 5001-06-P